NUCLEAR REGULATORY COMMISSION

[Docket No. 50-610; NRC-2022-0167]

Abilene Christian University; Molten Salt Research Reactor; Construction Permit

AGENCY: Nuclear Regulatory Commission.

ACTION: Notice; issuance.

SUMMARY: The U.S. Nuclear Regulatory Commission (NRC) is providing notice of the issuance of Construction Permit No. CPRR-124 to Abilene Christian University (ACU).

DATES: Construction Permit No. CPRR-124 was issued on September 16, 2024.

ADDRESSES: Please refer to Docket ID NRC-2022-0167 when contacting the NRC about the availability of information for this action. You may obtain publicly available information related to this action by any of the following methods:

• Federal Rulemaking Website: Go to https://www.regulations.gov and search for Docket ID NRC-2022-0167. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or via email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Richard Rivera, Office of Nuclear Reactor Regulation, U.S. Nuclear Regulatory Commission, Washington, DC 20555-0001; telephone: 301-415-7190; email: Richard.Rivera@nrc.gov.

SUPPLEMENTARY INFORMATION:

I. Discussion

In accordance with section 2.106 of title 10 of the Code of Federal Regulations (10 CFR), the NRC is providing notice of the issuance of Construction Permit No. CPRR-124 to ACU. The construction permit, which is immediately effective, authorizes ACU to construct a research reactor in the Gayle and Max Dillard Science and Engineering Research Center on the ACU campus in Abilene, Texas, as described in ACU's construction permit application, as supplemented. With respect to the construction permit application filed by ACU, the NRC staff performed an environmental review and a safety review, and its evaluations and conclusions are documented in an environmental assessment and a safety evaluation, respectively. Based, in part, on these documents, the NRC found that the applicable standards and requirements of the Atomic Energy Act of 1954, as amended (the Act), and the Commission's regulations have been met. The NRC also found that any required notifications to other agencies or bodies have been duly made and that, among other things, there is reasonable assurance that the activities authorized by the construction permit will be conducted in compliance with the rules and regulations of the Commission. On the basis of the foregoing, the NRC found that there is reasonable assurance that taking into consideration siting criteria, the proposed facility can be constructed and operated at the proposed location without undue risk to the health and safety of the public, subject to the conditions listed in the construction permit. Furthermore, the NRC found that ACU is technically and financially qualified to engage in the activities authorized and that the issuance of the construction permit will not be inimical to the common defense and security or to the health and safety of the public. Finally, the NRC found that the applicable requirements of subpart A of 10 CFR part 51 have been satisfied. Accordingly, the immediately effective construction permit was issued on September 16, 2024.

II. Availability of Documents

The documents identified in the following table are available to interested persons through ADAMS.

Document description | ADAMS Accession No.
Construction Permit No. CPRR-124 | ML24243A040.
Safety Evaluation Related to the Abilene Christian University Construction Permit Application for the Molten Salt Research Reactor | ML24243A042.
Environmental Assessment for the Construction Permit Application for the Abilene Christian University Molten Salt Research Reactor | ML23300A053.
ACU Construction Permit Application, as supplemented | ML22227A201 (Package).
| ML22293B816 (Package).
| ML23230A392.
| ML23319A094 (Package).
| ML24024A009.
| ML24094A332.
| ML24109A203.
| ML24121A271 (Package).
| ML24164A236.
| ML24219A258 (Package).

Dated: September 16, 2024.
For the Nuclear Regulatory Commission.
Jeremy Bowen,
Director, Division of Advanced Reactors and Non-Power Production and Utilization Facilities, Office of Nuclear Reactor Regulation.

[FR Doc. 2024-21468 Filed 9-19-24; 8:45 am]

BILLING CODE 7590-01-P